FEDERAL RESERVE SYSTEM

Federal Open Market Committee

12 CFR Parts 271, 272, 281

[Rules Regarding Availability of Information; Rules of Procedure; Statements of Policy; Docket No. R-1222]

Amendment to Rules Regarding Availability of Information; Rules of Procedure; Statements of Policy

AGENCY: Federal Open Market Committee.

ACTION: Final rule.

SUMMARY: The Federal Open Market Committee (the “Committee”) has made a variety of technical and minor changes to its Rules Regarding Availability of Information, Rules of Procedure, and Statements of Policy. The amendments are designed to conform the rules and statements to the Committee's existing practices, facilitate the ability of Committee members to participate in a meeting in unusual circumstances, and remove obsolete provisions. The amendments also make the rules gender-neutral and authorize the Secretary of the Committee (with the concurrence of the Committee's General Counsel) to make technical changes to the Committee's rules, regulations, and other actions in the future.

DATES: The amendments are effective February 16, 2005.

FOR FURTHER INFORMATION CONTACT: Kieran J. Fallon, Assistant General Counsel (202-452-5270), April C. Snyder, Attorney (202-452-3099), Legal Division; Board of Governors of the Federal Reserve System; or Deborah J. Danker, Deputy Secretary (202-452-3253), Federal Open Market Committee, 20th Street and Constitution Avenue, NW., Washington, DC 20551. Users of Telecommunication Device for Deaf (TTD) only, call (202) 263-4869.

SUPPLEMENTARY INFORMATION:

A. Amendments to Rules of Procedure and Rules Regarding Availability of Information

The Committee has amended section 272.3(a) of its Rules of Procedure to allow members that cannot be present at a meeting in person to participate in the meeting by electronic means, such as by videoconference arrangements, as well as by telephone conference arrangements. The amendment should facilitate the ability of the Committee to act if unusual circumstances, such as a national emergency, prevent the Committee or any of its members from assembling in Washington, DC.

The Committee also has amended sections 272.3(d) and (e) of its Rules of Procedure to reflect the fact that (i) currently only a single Manager is selected to operate the System Open Market Account for the Committee; and (ii) under the Committee's new expedited procedure for the release of Committee minutes, the minutes of a Committee meeting typically will be approved prior to (rather than at) the Committee's next regularly scheduled meeting. In addition, the Committee has updated the references to its internet Web site and to the Federal Reserve Bulletin (which is now published on a quarterly basis) in its Rules Regarding Availability of Information.

Finally, the Committee has modified sections 272.3(b) and 272.4(c) of its Rules of Procedure and sections 271.8(a) and (b) of its Rules Regarding Availability of Information to make the rules gender-neutral. In addition, the Committee has authorized the Secretary of the Committee (with the concurrence of the Committee's General Counsel) to make other technical, non-substantive changes (such as correcting spelling errors or deleting obsolete provisions) to the Committee's rules, regulations and other actions in the future. This delegated authority, which is identical to the authority that the Secretary of the Board has to make technical changes to the Board's rules (12 CFR 265.5(a)(4)), is codified in a new section 272.4(d) of the Rules of Procedure.

B. Deletion of Outdated Statement of Policy

In 1947, the Committee directed the Federal Reserve Banks to terminate, effective July 10, 1947, the policy of purchasing all Treasury bills offered to them at a fixed rate of ⅜ percent per annum and to terminate the repurchase option privilege on Treasury bills. This statement, which currently is codified at 12 CFR 281.1, is no longer relevant to the Committee's policies or operations and has been deleted.

The amendments to the Committee's Rules of Procedure and Statements of Policy relate solely to the Committee's internal procedure and practices or constitute general statements of policy. Accordingly, the public notice, public comment and delayed effective date provisions of the Administrative Procedure Act do not apply to these amendments.¹ Because the amendments to the Rules Regarding Availability of Information are technical in nature, the Committee has determined that good cause exists for making these amendments effective immediately, and that public notice and comment on these amendments are impracticable, unnecessary or contrary to the public interest.²

¹ See 5 U.S.C. 553(b) and (d).

² See 5 U.S.C. 553(b)(3)(B).

List of Subjects

12 CFR Part 271

Freedom of information.

12 CFR Part 272

Administrative practice and procedure, Organization and functions (Government agencies).

12 CFR Part 281

Government securities, Sunshine Act.

Authority and Issuance

For the reasons set out in the preamble, the Federal Open Market Committee amends 12 CFR parts 271, 272, and 281 as follows:

PART 271—RULES REGARDING AVAILABILITY OF INFORMATION

1. The authority citation for part 271 continues to read as follows:

Authority: 5 U.S.C. 552; 12 U.S.C. 263.

2. The first sentence of § 271.3(c) is revised to read as follows:

§ 271.3 Published information.

* * * * *

(c) Other published information. From time to time, other information relating to open market operations of the Federal Reserve Banks is published in the Federal Reserve Bulletin, in the Board's annual report to Congress, and in announcements and statements released to the press. * * *

* * * * *

3. Section 271.4(c) is revised to read as follows:

§ 271.4 Records available for public inspection and copying.

* * * * *

(c) Electronic records. Information available under this section that was created on or after November 1, 1996, shall also be available on the Board's Web site, found at http://www.federalreserve.gov.

* * * * *

4. In § 271.8, paragraph (a) and the first sentence of paragraph (b) are revised to read as follows:

§ 271.8 Subpoenas.

(a) Advice by person served. If any person, whether or not an officer or employee of the Committee, of the Board of Governors of the Federal Reserve System, or of a Federal Reserve Bank, has information of the Committee that may not be disclosed by reason of § 271.7 and in connection therewith is served with a subpoena, order, or other process requiring the person's personal attendance as a witness or the production of documents or information upon any proceeding, the person should promptly inform the Secretary of the Committee of such service and of all relevant facts, including the documents and information requested and any facts that may be of assistance in determining whether such documents or information should be made available; and the person should take action at the appropriate time to inform the court or tribunal that issued the process, and the attorney for the party at whose instance the process was issued, if known, of the substance of this part.

(b) Appearance by person served. Except as disclosure of the relevant information is authorized pursuant to this part, any person who has information of the Committee and is required to respond to a subpoena or other legal process shall attend at the time and place therein mentioned and decline to disclose such information or give any testimony with respect thereto, basing such refusal upon this part. * * *

PART 272—FEDERAL OPEN MARKET COMMITTEE—RULES OF PROCEDURE

1. The authority citation for part 272 continues to read as follows:

Authority: 5 U.S.C. 552.

2. In § 272.3, the last sentence of paragraph (a), paragraph (b), paragraph (d), and the last sentence of paragraph (e) are revised to read as follows:

§ 272.3 Meetings.

(a) Place and frequency. * * * If, in the judgment of the Chairman, circumstances require that a meeting be called at such short notice that one or more members cannot be present in person, such members may participate in the meeting by telephone conference arrangements or by electronic means.

(b) Alternates. Whenever any member of the Committee representing Federal Reserve banks shall find that the member will be unable to attend a meeting of the Committee, the member shall promptly notify the member's alternate and the Secretary of the Committee in writing, by telephone, or electronic means, and upon receipt of such notice such alternate shall advise the Secretary whether the alternate will attend such meeting.

* * * * *

(d) Attendance at meetings. Attendance at Committee meetings is restricted to members and alternate members of the Committee, the Presidents of Federal Reserve Banks who are not at the time members or alternates, staff officers of the Committee, the Manager, and such other advisers as the Committee may invite from time to time.

(e) Meeting agendas. * * * In general, the agendas include reports by the Manager on open market operations since the previous meeting, and ratification by the Committee of such operations; reports by Economists on, and Committee discussion of, the economic and financial situation and outlook; Committee discussion of monetary policy and action with respect thereto; and such other matters as may be considered necessary.

3. In § 272.4, the second sentence of paragraph (c) is revised, paragraph (d) is redesignated as paragraph (e), and a new paragraph (d) is added. The revision and addition read as follows:

§ 272.4 Committee actions.

* * * * *

(c) Delegations of authority. * * * Such delegations of authority may be made to the Chairman; to a subcommittee consisting of the Chairman and the Vice Chairman of the Committee and the Vice Chairman of the Board (or in the absence of the Chairman or of the Vice Chairman of the Board the members of the Board designated by the Chairman as alternates, and in the absence of the Vice Chairman of the Committee the alternate for the Vice Chairman); or to any other member or members of the Committee. * * *

(d) Technical changes to Committee rules. The Secretary of the Committee (or the acting secretary) is authorized to make technical corrections, such as spelling, grammar, construction, and organization (including removal of obsolete provisions and references), to the Committee's rules, regulations, and orders and other records of Committee action but only with the concurrence of the Committee's General Counsel.

* * * * *

PART 281—STATEMENTS OF POLICY

1. The authority citation for part 281 is revised to read as follows:

Authority: 12 U.S.C. 263; 5 U.S.C. 552.

2. Section 281.1 (Purchase of Treasury bills) is removed and § 281.2 (Policy regarding the Government in the Sunshine Act) is redesignated as § 281.1.

By order of the Federal Open Market Committee, February 8, 2005.
Vincent R. Reinhart,
Secretary, Federal Open Market Committee.

[FR Doc. 05-2775 Filed 2-15-05; 8:45 am]

BILLING CODE 6210-01-P